FEDERAL RESERVE SYSTEM

Agency Information Collection Activities: Announcement of Board Approval Under Delegated Authority and Submission to OMB

SUMMARY:

Background

Notice is hereby given of the final approval of proposed information collection(s) by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instruments are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Mary M. West—Division of Research and Statistics, Board of Governors of the Federal Reserve System, Washington, DC 20551 (202-452-3829). OMB Desk Officer—Alexander T. Hunt—Office of Information and Regulatory Affairs, Office of Management and Budget, New Executive Office Building, Room 3208, Washington, DC 20503 (202-395-7860).

Final Approval Under OMB Delegated Authority of the Extension for Three Years, With Revision of the Following Reports

1. Report title: Monthly Survey of Industrial Electricity Use.

Agency form number: FR 2009.

OMB Control number: 7100-0057.

Frequency: Monthly.

Reporters: FR 2009a/c: Electric utility companies; FR 2009b: Cogenerators.

Annual reporting hours: FR 2009a/c: 2,196 hours; FR 2009b: 1,188 hours.

Estimated average hours per response: FR 2009a/c: 1 hour; FR 2009b: 30 minutes.

Number of respondents: FR 2009a/c: 183; FR 2009b: 198.

Small businesses are affected.

General description of report: This information collection is voluntary (12 U.S.C. 225a, 263, 353 et seq., and 461) and individual respondent data are given confidential treatment (5 U.S.C. 552(b)(4)).

Abstract: The survey collects information on the volume of electric power delivered during the month to classes of industrial customers. There are now three versions of the survey: the FR 2009a, collects information from electric utilities that report using the Standard Industrial Classification (SIC) codes, the FR 2009b collects information from manufacturing and mining facilities that generate electric power for their own use, and the 2009c, collects information from electric utilities that report using the North American Industry Classification System (NAICS).

Current Actions: During the next two years the industrial output index will be revised to reflect the new NAICS. The published series will be categorized under the NAICS codes instead of the current SIC codes. To facilitate this transition process, the Federal Reserve will ask utilities to reclassify their customers using the new codes. The FR 2009c has been created in the NAICS format for use by respondents that have made the transition from SIC to NAICS codes. The FR 2009a would be completed only by the respondents that choose to report SIC codes. This approach would not impose any added burden on the respondents. The Federal Reserve also proposes to eliminate the FR 2009a after the two-year transition period.

Final Approval Under OMB Delegated Authority of the Extension for Three Years, Without Revision, of the Following Reports

1. Report titles: Quarterly Report of Interest Rates on Selected Direct Consumer Installment Loans; Quarterly Report of Credit Card Plans.

Agency form number: FR 2835; FR 2835a.

OMB Control number: 7100-0085.

Frequency: Quarterly.

Reporters: Commercial Banks.

Annual reporting hours: FR 2835: 90 hours; FR 2835a: 200 hours.

Estimated average hours per response: FR 2835: 9 minutes; FR 2835a: 30 minutes.

Number of respondents: FR 2835: 150; FR 2835a: 100.

Small businesses are not affected.

General description of report: These information collections are voluntary (12 U.S.C. 248(a)(2)). The FR 2835a individual respondent data are given confidential treatment (5 U.S.C. 552 (b)(4)), the FR 2835 data however, is not given confidential treatment.

Abstract: The FR 2835 collects the most common interest rate charged at a sample of 150 commercial banks on two types of consumer loans made in a given week each quarter: new auto loans and other loans for consumer goods and personal expenditures. The data are reported for the calendar week beginning on the first Monday of each survey month (February, May, August, and November).

The FR 2835a collects information on two measures of credit card interest rates from a sample of 100 commercial banks (authorized panel size), selected to include banks with $1 billion or more in credit card receivables, and a representative group of smaller issuers. The data are representative of interest rates paid by consumers on bank credit cards because the panel includes virtually all large issuers and an appropriate sample of other issuers.

2. Report title: Report of Changes in Foreign Investments (Made Pursuant to Regulation K).

Agency form number: FR 2064.

OMB Control number: 7100-0109.

Frequency: Event-generated.

Reporters: Member banks, Edge and agreement corporations, and bank holding companies.

Annual reporting hours: 750 hours.

Estimated average hours per response: 30 minutes.

Number of respondents: 50.

Small businesses are not affected.

General description of report: This information collection is mandatory (12 U.S.C. 602, 625 and 1844) and is given confidential treatment (5 U.S.C. 552(b)(4)).

Abstract: Member banks, Edge and agreement corporations, and bank holding companies are required to file the FR 2064 to record changes in their international investments. The FR 2064 report is event generated and is filed no later than the last day of the month following the month in which the change occurred. The Federal Reserve uses the information to monitor investments in the international operations of U.S. banking organizations and to fulfill its supervisory responsibility under Regulation K.

Final Approval Under OMB Delegated Authority of the Discontinuation of the Following Reports

1. Report title: Quarterly Gasoline Company Report.

Agency form number: FR 2580.

OMB control number: 7100-0009.

Frequency: Quarterly.

Reporters: Gasoline companies.

Annual reporting hours: 4 hours.

Estimated average hours per response: 9 minutes.

Number of respondents: 7.

Small businesses are not affected.

Abstract: The FR 2580 collected outstanding balances on retail credit card accounts at gasoline companies. The number of FR 2580 reporters has declined over time as the industry structure has changed. Initially, the data were collected from the universe of approximately thirty gasoline companies; subsequently, some smaller companies withdrew from the sample or were merged into other companies. In recent years some major companies have entered into Aco-branding@ arrangements with banks and have significantly reduced, or eliminated, their own credit card portfolios. The Federal Reserve will discontinue the FR 2580 as of July 31, 2000 primarily because the number of respondents has dwindled. The decrease in reporting is due in part to the purchase of some of the gasoline companies' receivables by depository institutions in recent years. Because of the difficulty in maintaining a meaningful sample and because of the small fraction of consumer credit that these receivables represent, the Federal Reserve does not believe it is useful to continue the report.

Board of Governors of the Federal Reserve System, July 26, 2000.
Jennifer J. Johnson,
Secretary of the Board.

[FR Doc. 00-19313 Filed 7-31-00; 8:45 am]

BILLING CODE 6210-01-P